DEPARTMENT OF STATE

[Public Notice: 11464]

Notice of Public Meeting in Preparation for International Maritime Organization Meeting

The Department of State will conduct a public meeting at 10:00 a.m. on Friday, July 23, 2021, by way of teleconference. Members of the public may participate up to the capacity of the teleconference phone line, which will handle 500 participants. To access the teleconference line, participants should call (202) 475-4000 and use Participant Code: 138 541 34#.

The primary purpose of the meeting is to prepare for the 108th session of the International Maritime Organization's (IMO) Legal Committee (LEG 108) to be held remotely from July 26 to July 30, 2021. This is not a meeting of the Shipping Coordinating Committee.

The agenda items to be considered at the public meeting mirror those to be considered at LEG 108, and include:

—Adoption of the agenda

—Report of the Secretary-General on credentials

—Facilitation of the entry into force and harmonized interpretation of the 2010 HNS Protocol

—Fair treatment of seafarers

—Advice and guidance in connection with the implementation of IMO instruments

—Measures to prevent unlawful practices associated with the fraudulent registration and fraudulent registries of ships

—Regulatory scoping exercise and gap analysis of conventions emanating from the Legal Committee with respect to Maritime Autonomous Surface Ships (MASS)

—Unified Interpretation on the test for breaking the owner's right to limit liability under the IMO conventions

—Piracy

—Work of other IMO bodies

—Technical cooperation activities related to maritime legislation

—Review of the status of conventions and other treaty instruments emanating from the Legal Committee

—Any other business

Please note: IMO's Legal Committee may, on short notice, adjust the LEG 108 agenda to accommodate the constraints associated with the virtual meeting format. Any changes to the agenda will be reported to those who RSVP and those in attendance at the meeting.

Those who plan to participate may contact the meeting coordinator, Mr. Stephen Hubchen, by email at Stephen.K.Hubchen@uscg.mil, by phone at (202) 372-1198, or in writing at 2703 Martin Luther King Jr. Ave. SE, Stop 7509, Washington DC 20593-7509. Members of the public needing reasonable accommodation should advise Mr. Hubchen not later than July 16, 2021. Requests made after that date will be considered, but might not be possible to fulfill.

Additional information regarding this and other IMO public meetings may be found at: https://www.dco.uscg.mil/IMO.

Emily A. Rose,
Coast Guard Liaison Officer, Office of Ocean and Polar Affairs, Department of State.

[FR Doc. 2021-14817 Filed 7-12-21; 8:45 am]

BILLING CODE 4710-09-P